DEPARTMENT OF COMMERCE

National Institute of Standards and Technology

Synthetic Biology Standards Consortium—Kick-off Workshop

AGENCY: National Institute of Standards & Technology (NIST), Department of Commerce.

ACTION: Notice of public workshop.

SUMMARY: NIST announces the Synthetic Biology Standards Consortium (SBSC)—Kick-off Workshop to be held on Tuesday March 31, 2015 from 9 a.m.-4:30 p.m. Pacific time. The SBSC will be convened as a standards setting consortium focused on the shared standards development needs of consortium participants. It will provide safe harbor for collaborative work through the formation of technical standards-setting working groups. Successful working groups will be organized around a clear vision of specific metrology products—standards, including reference materials, reference data, reference methods, and documentary standards—that will enable interoperability and reproducibility. The goal of the workshop is to identify several initial working groups with critical mass, leadership teams, and a clear path forward to deliver standards that support the growth of the bioeconomy.

DATES: The Synthetic Biology Standards Consortium Kick-Off meeting will be held on Tuesday, March 31, 2015 from 9 a.m.-4:30 p.m. Pacific time.

ADDRESSES: The meeting will be held at Li Ka Shing Conference Center at Stanford University, 291 Campus Drive, Stanford, CA 94305. To register, go to http://tinyurl.com/sbsc-0315. There is no registration fee. Space is limited so please register early. Travel and parking information can be found on the registration page listed above.

FOR FURTHER INFORMATION CONTACT: For further information contact Matthew Munson by email at mmunson@nist.gov or by phone at (650) 690-6761, or Sarah Munro by email at smunro@nist.gov or by phone at (650) 690-6796, or Marc Salit by email at salit@nist.gov or by phone at (650) 350-2338.

SUPPLEMENTARY INFORMATION: Synthetic biology will realize its full contributions to the bioeconomy when a robust metrology infrastructure is in place to enable coordination of labor and reuse of materials. Metrology products—standards, including reference materials, reference data, reference methods, and documentary standards—can enable business-to-business transactions at scale. The NIST-hosted Synthetic Biology Standards Consortium (SBSC) will collectively build the infrastructure to support a fully integrated global synthetic biology enterprise. NIST will provide standards development support for some consortium activities, as well as facilitation and technical leadership.

The SBSC will be convened as a standards setting consortium focused on the shared standards development needs of consortium members. It will provide safe harbor for collaborative work through the formation of technical standards-setting working groups. Successful working groups will be organized around a clear vision of specific metrology products that will enable interoperability and reproducibility.

Example metrology products might include a reference material such as a standard proteome set from whole cell lysates to be used as a benchmark for mass spectroscopy; reference data such as a DNA watermark repository; a reference method for DNA sequence verification; and a documentary standard for minimum information standards for biological protocol interoperability.

The goal of the workshop is to identify several initial working groups with critical mass, leadership teams, and a clear path forward to deliver standards. Participants are invited to put forth proposals—your input is essential to the success of this work. Some candidate working groups are listed on the registration page. Proposals for working groups are strongly solicited and may be contributed via the workshop registration page (http://tinyurl.com/sbsc-0315), SBSC Trello page (http://tinyurl.com/NIST-SBSC), or email to the NIST team (sbsc@nist.gov). The portfolio of working groups and the technical projects within working groups will be dynamic as needs shift and arise.

At present, we expect that the workshop will conclude with:

• A prioritized list of working groups with well-defined customers, scope, and initial products

• Working group leadership teams to begin to coordinate technical implementation

• A plan for continued engagement within the consortium, including ways of working together

• Establishment of consortium operations, e.g., steering committee and advisory board

The SBSC—Kick-off Workshop will be held on Tuesday March 31, 2015 from 9:00 a.m.-4:30 p.m. Pacific time. The workshop will be held in the Li Ka Shing Conference Center at Stanford University in Stanford, California. To register, go to http://tinyurl.com/sbsc-0315. There is no registration fee. Space is limited so please register early. Travel and parking information can be found on the registration page listed above.

There is no cost for participating in the consortium or the workshop. No proprietary information will be shared at the workshop.

Richard Cavanagh,
Acting Associate Director for Laboratory Programs.

[FR Doc. 2015-06839 Filed 3-20-15; 4:15 pm]

BILLING CODE 3510-13-P